NUCLEAR REGULATORY COMMISSION

[Docket No. 40-7580-MLA-2; ASLBP No. 03-813-04-MLA]

Fansteel, Inc.; Designation of Presiding Officer

Pursuant to delegation by the Commission, see 37 Fed. Reg. 28,710 (Dec. 29, 1972), and the Commission's regulations, see 10 CFR 2.1201, 2.1207, notice is hereby given that (1) a single member of the Atomic Safety and Licensing Board Panel is designated as Presiding Officer to rule on petitions for leave to intervene and/or requests for hearing; and (2) upon making the requisite findings in accordance with 10 CFR 2.1205(h), the Presiding Officer will conduct an adjudicatory hearing in the following proceeding: Fansteel, Inc., Muskogee, Oklahoma (Materials License Amendment).

The hearing will be conducted pursuant to 10 CFR part 2, subpart L, of the Commission's Regulations, “Informal Hearing Procedures for Adjudications in Materials and Operator Licensing Proceedings.” This proceeding concerns a request for hearing submitted on June 16, 2003, by the Attorney General of the State of Oklahoma in response to the asserted request of Fansteel, Inc., to amend its 10 CFR part 40 source material license to allow decommissioning of its facility located in Muskogee, Oklahoma.

The Presiding Officer in this proceeding is Administrative Judge G. Paul Bollwerk, III. All correspondence, documents, and other materials shall be filed with Judge Bollwerk in accordance with 10 CFR 2.1203. His address is: G. Paul Bollwerk, III, Administrative Judge, Presiding Officer, Atomic Safety and Licensing Board Panel, U.S. Nuclear Regulatory Commission, Washington, DC 20555-0001.

Issued at Rockville, Maryland, this 9th day of July 2003.
G. Paul Bollwerk, III,
Chief Administrative Judge, Atomic Safety and Licensing Board Panel.

[FR Doc. 03-17847 Filed 7-14-03; 8:45 am]

BILLING CODE 7590-01-P